DEPARTMENT OF AGRICULTURE

Rural Utilities Service

Municipal Interest Rates for the First Quarter of 2001

AGENCY: Rural Utilities Service, USDA.

ACTION: Notice of municipal interest rates on advances from insured electric loans for the first quarter of 2001.

SUMMARY: The Rural Utilities Service hereby announces the interest rates for advances on municipal rate loans with interest rate terms beginning during the first calendar quarter of 2001.

DATES: These interest rates are effective for interest rate terms that commence during the period beginning January 1, 2001, and ending March 31, 2001.

FOR FURTHER INFORMATION CONTACT: Gail P. Salgado, Management Analyst, Office of the Assistant Administrator, Electric Program, Rural Utilities Service, U.S. Department of Agriculture, Room 4024-S, Stop 1560, 1400 Independence Avenue, SW, Washington, DC 20250-1560. Telephone: 202-205-3660. FAX: 202-690-0717. E-mail: GSalgado@rus.usda.gov.

SUPPLEMENTARY INFORMATION: The Rural Utilities Service (RUS) hereby announces the interest rates on advances made during the first calendar quarter of 2001 for municipal rate electric loans. RUS regulations at § 1714.4 state that each advance of funds on a municipal rate loan shall bear interest at a single rate for each interest rate term. Pursuant to § 1714.5, the interest rates on these advances are based on indexes published in the “Bond Buyer” for the four weeks prior to the fourth Friday of the last month before the beginning of the quarter. The rate for interest rate terms of 20 years or longer is the average of the 20 year rates published in the Bond Buyer in the four weeks specified in § 1714.5(d). The rate for terms of less than 20 years is the average of the rates published in the Bond Buyer for the same four weeks in the table of “Municipal Market Data—General Obligation Yields” or the successor to this table. No interest rate may exceed the interest rate for Water and Waste Disposal loans.

The table of Municipal Market Data includes only rates for securities maturing in 2001 and at 5 year intervals thereafter. The rates published by RUS reflect the average rates for the years shown in the Municipal Market Data table. Rates for interest rate terms ending in intervening years are a linear interpolation based on the average of the rates published in the Bond Buyer. All rates are adjusted to the nearest one eighth of one percent (0.125 percent) as required under § 1714.5(a). The market interest rate on Water and Waste Disposal loans for this quarter is 5.500 percent.

In accordance with § 1714.5, the interest rates are established as shown in the following table for all interest rate terms that begin at any time during the first calendar quarter of 2001.

Interest rate term ends in (year) | RUS rate (0.000 percent)
2022 | 5.500 or later
2021 | 5.500
2020 | 5.500
2019 | 5.500
2018 | 5.500
2017 | 5.500
2016 | 5.500
2015 | 5.500
2014 | 5.500
2013 | 5.500
2012 | 5.375
2011 | 5.375
2010 | 5.250
2009 | 5.250
2008 | 5.125
2007 | 5.125
2006 | 5.000
2005 | 4.875
2004 | 4.750
2003 | 4.500
2002 | 4.375

Dated: December 18, 2000.
Christopher A. McLean,
Administrator, Rural Utilities Service.

[FR Doc. 00-32645 Filed 12-21-00; 8:45 am]

BILLING CODE 3410-15-P